DEPARTMENT OF JUSTICE

Notice of Lodging of Proposed Settlement Agreement Under the Comprehensive Environmental Response, Compensation, and Liability Act

On June 3, 2015, the Liquidating Trustee lodged a proposed “Stipulation By and Between the Liquidating Trustee and the United States Environmental Protection Agency” with the United States Bankruptcy Court for the District of Delaware, in the Chapter 11 bankruptcy entitled In re: FBI Wind Down, Inc. (f/k/a Furniture Brands International, Inc.), et al., Case No. 13-12329 (CSS).

The Settlement Agreement resolves the claims of the United States set forth in the Proof of Claim against Thomasville Furniture Industries, Inc., for costs incurred and to be incurred in connection with the Buckingham County Landfill Site, located in Dillwyn, Buckingham County, Virginia (the “Site”), pursuant to Section 107 of the Comprehensive Environmental Response, Compensation, and Liability Act (“CERCLA”), 42 U.S.C. 9607. Under the Settlement Agreement, the Liquidating Trustee agrees to an allowed and fixed general unsecured claim in the amount of six million dollars ($6,000,000) for costs incurred and to be incurred by the United States Environmental Protection Agency at the Site.

The publication of this notice opens a period for public comment on the Settlement Agreement. Comments should be addressed to the Assistant Attorney General, Environment and Natural Resources Division, and should refer to In re: FBI Wind Down, Inc., No. 90-11-2-07971/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department Web site: http://www.usdoj.gov/enrd/Consent_Decrees.html. We will provide a paper copy of the Settlement Agreement upon written request and payment of reproduction costs. Please mail your request and payment to: Settlement Agreement Library, U.S. DOJ—ENRD, P.O. Box 7611, Washington, DC 20044-7611.

Please enclose a check or money order for $3.50 (25 cents per page reproduction cost) payable to the United States Treasury. For a paper copy without the appendices and signature pages, the cost is $2.25.

Robert Brook,
Assistant Section Chief, Environmental Enforcement Section, Environment and Natural Resources Division.

[FR Doc. 2015-14102 Filed 6-9-15; 8:45 am]

BILLING CODE 4410-15-P